FEDERAL RESERVE SYSTEM

Consumer Advisory Council; Notice of Meeting of Consumer Advisory Council

The Consumer Advisory Council will meet on Thursday, March 25, 2004. The meeting, which will be open to public observation, will take place at the Federal Reserve Board's offices in Washington, DC, in Dining Room E on the Terrace level of the Martin Building. Anyone planning to attend the meeting should, for security purposes, register no later than Tuesday, March 23, by completing the form found on-line at: https://www.federalreserve.gov/secure/forms/cacregistration.cfm

Additionally, attendees must present photo identification to enter the building.

The meeting will begin at 9 a.m. and is expected to conclude at 1 p.m. The Martin Building is located on C Street, NW., between 20th and 21st Streets.

The Council's function is to advise the Board on the exercise of the Board's responsibilities under various consumer financial services laws and on other matters on which the Board seeks its advice. Time permitting, the Council will discuss the following topics:

Community Reinvestment Act: Discussion of issues in connection with the proposed changes to Regulation BB, which implements the Community Reinvestment Act.

Rules for Uniform Standards for Clear and Conspicuous Disclosures: Discussion of issues in the proposed rules to establish more uniform standards for providing disclosures for: Regulation B, which implements the Equal Credit Opportunity Act; Regulation E, which implements the Electronic Fund Transfer Act; Regulation M, which implements the Consumer Leasing Act; Regulation Z, which implements the Truth in Lending Act; and Regulation DD, which implements the Truth in Savings Act.

General Accounting Office (GAO) Study on Predatory Lending: Discussion of GAO's findings, conclusions, and recommendations.

Committee Reports: Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, March 5, 2004.
Jennifer J. Johnson,
Secretary of the Board.

[FR Doc. 04-5452 Filed 3-10-04; 8:45 am]

BILLING CODE 6210-01-P